ENVIRONMENTAL PROTECTION AGENCY

40 CFR Part 63

[AD-FRL-7463-2]

National Emission Standards for Hazardous Air Pollutants: Rubber Tire Manufacturing

AGENCY: Environmental Protection Agency (EPA).

ACTION: Final rule; technical correction.

SUMMARY: This action corrects errors and clarifies regulatory text of the “National Emission Standards for Hazardous Air Pollutants: Rubber Tire Manufacturing,” which was issued as a final rule on July 9, 2002. These technical corrections will not change the level of health protection the final rule provides or the standards established by the rule.

Section 553 of the Administrative Procedure Act (APA), 5 U.S.C. 553(b)(B), provides that, when an agency for good cause finds that notice and public procedure are impracticable, unnecessary, or contrary to the public interest, the agency may issue a rule without providing notice and an opportunity for public comment. We have determined that there is good cause for making today's action final without prior proposal and opportunity for comment because the changes to the rule are minor technical corrections, are noncontroversial, and do not substantively change the requirements of the rule. Thus, notice and public procedure are unnecessary. We find that this constitutes good cause under 5 U.S.C. 553(b)(B) (see also the final sentence of section 307(d)(1) of the Clean Air Act, 42 U.S.C. 7607(d)(1), indicating that the good cause provisions of the APA continue to apply to this type of rulemaking under the Clean Air Act).

Section 553(d)(3) allows an agency, upon a finding of good cause, to make a rule effective immediately. Because today's changes do not substantively change the requirements of the rule, we find good cause to make these technical corrections effective immediately.

EFFECTIVE DATE: March 12, 2003.

FOR FURTHER INFORMATION CONTACT: Anthony P. Wayne, Policy Planning and Standards Group, Emission Standards Division, C439-04, U.S. EPA, Research Triangle Park, North Carolina, 27711, telephone number (919) 541-5439; Fax (919) 541-0942; Electronic mail address: wayne.tony@epa.gov.

SUPPLEMENTARY INFORMATION:

Regulated Entities. Categories and entities potentially regulated by this action include:

Category | NAICS ᵃ | Regulated entities
Industry | 326211 | Rubber Tire Manufacturing.
| 326212 | Facilities.
| 314992
ᵃ North American Information Classification System.

This list is not intended to be exhaustive, but rather provides a guide for readers regarding entities likely to be regulated by this action. To determine whether your facility is regulated by this action, you should examine the applicability criteria in 40 CFR 63.5981. If you have questions regarding the applicability of this action to a particular entity, consult your State or local agency (or EPA Regional Office) described in the preceding FOR FURTHER INFORMATION CONTACT section.

Docket. The EPA has established an official public docket for this action under Docket ID No. OAR-2002-0089. The official public docket consists of the documents that are available for public viewing in the Rubber Tire Manufacturing NESHAP Docket at the EPA Docket Center (Air Docket), EPA West, Room B-108, 1301 Constitution Avenue, NW., Washington, DC 20004. The Docket Center is open from 8:30 a.m. to 4:30 p.m., Monday through Friday, excluding legal holidays. The telephone number for the reading room is (202) 566-1742. Although a part of the official docket, the public docket does not include Confidential Business Information (CBI) or other information whose disclosure is restricted by statute.

Electronic Access. You may access this Federal Register document electronically through the EPA Internet under the “Federal Register” listings at http://www.epa.gov/fedrgstr/.

An electronic version of the public docket is also available through EPA's new electronic public docket, EPA Dockets. You may use EPA Dockets at http://www.epa.gov/rpas/ to access the index listing of the contents of the official public docket for this action, as well as access those documents in the public docket that are available electronically. Once in the system, select “search,” then key in the docket identification number that EPA has established for this action.

Certain types of information will not be placed in the EPA Docket. Information claimed as CBI, and other information whose disclosure is restricted by statute which is not included in the official public docket, will not be available for public viewing in EPA's electronic public docket either. The EPA's policy is that copyrighted material will not be placed in EPA's electronic public docket but will be available only in printed, paper form in the official public docket. To the extent feasible, publicly available supporting materials for this action will be made available in EPA's electronic public docket. When a document is selected from the index list in the EPA Docket, the system will identify whether the document is available for viewing in EPA's electronic public docket. Although not all docket materials may be available electronically, you may still access any of the publicly available docket materials through the Docket Center identified in this notice. The EPA intends to work toward providing electronic access to all of the publicly available docket materials through EPA's electronic public docket.

Worldwide Web (WWW). In addition to being available in the docket, an electronic copy of the final rule correction notice will also be available on the WWW through the Technology Transfer Network (TTN). Following signature, a copy of the final rule correction notice will be posted on the TTN's policy and guidance page for newly proposed or promulgated rules http://www.epa.gov/ttn/oarpg. The TTN provides information and technology exchange in various areas of air pollution control. If more information regarding the TTN is needed, call the TTN HELP line at (919) 541-5384.

I. Correction

On July 9, 2002 (67 FR 45588), the EPA promulgated the national emission standards for hazardous air pollutants (NESHAP) for rubber tire manufacturing as subpart XXXX in 40 CFR part 63. Today's action contains notification of typographical errors and corrections to clarify wording changes. The corrections will become effective immediately (without further rulemaking action) on March 12, 2003.

Table 17 to subpart XXXX contains two citations that indicate the applicability of the general provisions of 40 CFR part 63, subpart XXXX. Specifically, §§ 63.9(f), (g) and 63.10(b)(2)(i)-(iv) are referenced. The applicability of these provisions to subpart XXXX were indicated in the wrong columns of the table. Sections 63.9(f) and (g) are not applicable to subpart XXXX. Section 63.10(b)(2)(i)-(iv) is applicable to subpart XXXX when a control device is employed to meet the emission standards of subpart XXXX. Section 63.10(b)(2)(i)-(iv) is not applicable when a control device is not employed to comply with the emission standards of subpart XXXX. Today's action notifies interested parties of the corrections.

Several editorial changes are being made to clarify the intent of the provisions. Terminology in § 63.5994(c)(4), Equation 4, is being revised to clarify and correct the definition of the term HAPk. The term HAPk refers to the mass percent, expressed as a decimal, of all hazardous air pollutants (HAP) in cement and solvent. The term incorrectly stated “of the specified HAP.” The revision to the term definition will correct the inconsistency in Equation 4.

The definition of cements and solvents, § 63.6015, is being revised to clarify a specific item in the list of cements and solvents subject to the Rubber Tire Manufacturing final rule. The list of cements and solvents includes materials used to clean process equipment. The word “clean” was inadvertently left out of the final rule. The revision to include the word “clean” clarifies the intended meaning of the applicable cements and solvents.

II. Statutory and Executive Order Reviews

Under Executive Order 12866, Regulatory Planning and Review (58 FR 51735, October 4, 1993), this action is not a “significant regulatory action” and is therefore not subject to review by the Office of Management and Budget (OMB). This action is not a “major rule” as defined by 5 U.S.C. 804(2).

The technical correction does not impose an information collection burden under the provisions of the Paperwork Reduction Act of 1995 (44 U.S.C. 3501 et seq.).

Because EPA has made a “good cause” finding that this action is not subject to notice and comment requirements under the APA or any other statute, it is not subject to the regulatory flexibility provisions of the Regulatory Flexibility Act (5 U.S.C. 601 et seq.), or to sections 202 and 205 of the Unfunded Mandates Reform Act of 1995 (Pub. L. 104-4). In addition, this action does not significantly or uniquely affect small governments or impose a significant intergovernmental mandate, as described in sections 203 and 204 of the UMRA.

The technical correction does not have substantial direct effects on the States, or on the relationship between the national government and the States, as specified in Executive Order 13132, Federalism (64 FR 43255, August 10, 1999).

Today's action also does not significantly or uniquely affect the communities of tribal governments, as specified by Executive Order 13175, Consultation and Coordination with Indian Tribal Governments (65 FR 67249, November 6, 2000).

The technical correction also is not subject to Executive Order 13045, Protection of Children from Environmental Health and Safety Risks (62 FR 19885, April 23, 1997) because it is not economically significant.

The technical correction is not subject to Executive Order 13211, Actions Concerning Regulations That Significantly Affect Energy Supply, Distribution, or Use (66 FR 28355, May 22, 2001) because it is not a significant regulatory action under Executive Order 12866.

The technical correction action does not involve changes to the technical standards related to test methods or monitoring methods; thus, the requirements of section 12(d) of the National Technology Transfer and Advancement Act of 1995 (15 U.S.C. 272) does not apply.

The technical correction also does not involve special consideration of environmental justice-related issues as required by Executive Order 12898, Federal Actions to Address Environmental Justice in Minority Populations and Low-Income Populations (59 FR 7629, February 16, 1994).The EPA has complied with Executive Order 12630, Governmental Actions and Interference With Constitutionally Protected Property Rights (Takings) (53 FR 8859, March 15, 1988) by examining the takings implications of this rule correction in accordance with the “Attorney General's Supplemental Guidelines for the Evaluation of Risk and Avoidance of Unanticipated Takings” issued under the Executive Order.

In issuing the technical correction, EPA has taken the necessary steps to eliminate drafting errors and ambiguity, minimize potential litigation, and provide a clear legal standard for affected conduct, as required by section 3 of Executive Order 12988, Civil Justice Reform (61 FR 4729, February 7, 1996).

The Congressional Review Act (CRA)(5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement (5 U.S.C. 808(2)). As stated previously, EPA has made such a good cause finding, including the reasons therefore, and established an effective date of March 12, 2003. The EPA will submit a report containing this rule and other required information to the U.S. Senate, the U.S. House of Representatives, and the Comptroller General of the United States prior to publication of the rule in the Federal Register.

The EPA's compliance with these statutes and Executive Orders for the underlying rule is discussed in the July 9, 2002, Federal Register notice containing the Rubber Tire Manufacturing final rule (67 FR 45588).

List of Subjects for 40 CFR Part 63

Environmental protection, Administrative practice and procedure, Air pollution control, Hazardous substances, Intergovernmental relations, Reporting and recordkeeping requirements.

Dated: March 3, 2003.
Robert Brenner,
Acting Assistant Administrator for Air and Radiation.

For the reasons set out in the preamble, title 40, chapter I, part 63, subpart XXXX of the Code of Federal Regulations is amended as follows:

PART 63—[AMENDED]

1. The authority citation for part 63 continues to read as follows:

Authority: 42 U.S.C. 7401, et seq.

Subpart XXXX—[Amended]

2. Section 63.5994(c)(4) is amended by revising the term HAPk to read as follows:

§ 63.5994 How do I conduct tests and procedures for tire production affected sources?

* * * * *

(c) * * *

(4) * * *

HAPk = mass percent, expressed as a decimal, of all HAP in cement and solvent k, as purchased, for cements and solvents used in the month in processes that are routed to a control device during non-control operating days, which are defined as days when either the control system is not operating within the operating range established during the performance test or when monitoring data are not collected.

* * * * *

3. Section 63.6015 is amended by revising the definition of Cements and solvents to read as follows:

§ 63.6015 What definitions apply to this subpart?

* * * * *

Cements and solvents means the collection of all organic chemicals, mixtures of chemicals, and compounds used in the production of rubber tires, including cements, solvents, and mixtures used as process aids. Cements and solvents include, but are not limited to, tread end cements, undertread cements, bead cements, tire building cements and solvents, green tire spray, blemish repair paints, side wall protective paints, marking inks, materials used to clean process equipment, and slab dip mixtures. Cements and solvents do not include coatings or process aids used in tire cord production, puncture sealant application, rubber processing, or materials used to construct, repair, or maintain process equipment, or chemicals and compounds that are not used in the tire production process such as materials used in routine janitorial or facility grounds maintenance, office supplies (e.g., dry-erase markers, correction fluid), architectural paint, or any substance to the extent it is used for personal, family, or household purposes, or is present in the same form and concentration as a product packaged for distribution to and use by the general public.

* * * * *

[FR Doc. 03-5713 Filed 3-11-03; 8:45 am]

BILLING CODE 6560-50-P